FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans # | Acquiring | Acquired | Entities
Transactions Granted Early Termination—12/22/2003
20040186 | General Electric Company | HPSC, Inc | General Electric Company, HPSC, Inc.
20040201 | Transocean Inc | ConocoPhillips Company | ConocoPhillips Company, Deepwater Drilling L.L.C., Transocean Inc.
20040205 | Arlington Capital Partners, L.P | Science & Engineering Associates, Inc | Arlington Capital Partners, L.P., Science & Engineering Associates, Inc.
20040215 | The St. Paul Companies, Inc | Travelers Property Casualty Corp | The St. Paul Companies, Inc, Travelers Property Casualty Corp.
20040223 | Koch Industries, Inc | The Williams Companies, Inc | Koch Industries, Inc., The Williams Companies, Inc., Williams Alaska Petroleum, Inc., Williams Alaska Pipeline Company, L.L.C., Williams Energy Services, L.L.C.
20040226 | E. Merlin Jones Living Trust | Bunge Limited | Bunge Foods Corporation Bakery Division, Bunge Limited, E. Marlin Jones Living Trust.
20040232 | Societe des Participations du Commissariat | ALSTOM | ALSTOM, ALSTOM T&D Inc., Societe des Participations du Commissariat.
20040234 | Marmon Holdings, Inc | Rockwood Holding Company | Marmon Holdings, Inc., Rockwood Holding Company.
20040250 | TSO Holding Corporation | Lowe's Companies, Inc | Lowe's Companies, Inc. The Contractor yard, Inc., TSO Holding Corporation.
20040253 | Eugene Reed, Jr | Jardine Matheson Holdings Limited | Eugene Reed, Jr, Jardine Matheson Holdings Limited, Sig's Auto Body & Paint, Inc., TheoDavies Euromotors, Ltd., TheoDavies Hilo Motors, Ltd., TheoDavies Kona Motors, Ltd.
20040254 | Fletcher Jones, Jr | Jardine Matheson Holdings Limited | Fletcher Jones, Jr., Jardine Matheson Holdings Limited, Sig's Auto Body & Paint, Inc., TheoDavies Euromotors, Ltd., TheoDavies Hilo Motors, Ltd., TheoDavies Kona Motors, Ltd.
20040267 | Allied Capital Corporation | Mercury Air Group, Inc | Allied Capital Corporation, Mercury Air Centers, Inc., Mercury Air Group, Inc.
20040286 | AT&T Wireless Services, Inc | Telephone and data Systems, Inc. Voting Trust | AT&T Wireless Services, Inc, Telephone and data Systems, Inc. Voting Trust, Texas #20 Rural Cellular, Inc., USCOC of Corpus Christi, Inc., Victoria Cellular Corporation.
Transactions Granted Early Termination—12/23/2003
20040235 | Mr. Sumner M. Redstone | Midway Games, Inc | Midway Games, Inc., Mr. Sumner M. Redstone.
20040262 | Jardine Lloyd Thompson Group plc | HCC Insurance Holdings, Inc | HCC Insurance Holdings, Inc., Jardine Lloyd Thompson Group plc.
20040278 | The Kattegat Trust | Forrest Binkley & Brown Venture Co | Crosman Acquisition Corporation, Forrest Binkley & Brown Venture Co., The Kattegat Trust.
20040279 | The Home Depot, Inc | Steven A. Lyman | Creative Touch Interiors, Inc., Steven A. Lyman, The Home Depot, Inc.
Transactions Granted Early Termination—12/29/2003
20040239 | Eastman Kodak Company | Scitex Corporation Ltd | Eastman Kodak Company, Scitex Corporation Ltd., Scitex Digital Printing, Inc.
20040257 | Merck & Co., Inc | Neurogen Corporation | Merck & Co., Inc., Neurogen Corporation.
Transactions Granted Early Termination—12/30/2003
20040264 | The Resolute Fund L.P | The Techs | The Resolute Fund L.P., The Techs.
20040280 | NCO Group, Inc | RMH Teleservices, Inc | NCO Group, Inc., RMH Teleservices, Inc.
20040282 | Lehman Brothers Holdings Inc | Unilever N.V. | Conopco, Inc., Lehman Brothers Holdings Inc., Unilever N.V.
20040283 | Code Hennessy & Simmons IV, L.P | H Group Holding, Inc | Baker Tanks, Inc., Code Hennessy & Simmons IV, L.P., H Group Holding, Inc.
20040299 | Kforce Inc | Hall, Kinion & Associates, Inc | Hall, Kinion & Associates, Inc., Kforce Inc.
20040305 | United States Steel Corporation | Rouge Industries, Inc., Debtor-in-Possession | Rouge Industries, Inc., Debtor-in-Possession, United States Steel Corporation.
20040306 | Calpine Corporation | Aquila, Inc | Aquila, Inc., Calpine Corporation, MEP Investments, LLC, MEP Pleasant Hill, LLC.
20040307 | Dominion Resources, Inc | Alliant Energy Corporation | Alliant Energy Corporation, Dominion Resources, Inc., Wisconsin Power and Light Company.
20040308 | Dominion Resources, Inc | WPS Resources Corporation | Dominion Resources, Inc., Wisconsin Public Service Corporation, WPS Resources Corporation.
20040310 | Danaher Corporation | Dentsply International Inc | Donaher Corporation, Dentsply International Inc.
20040314 | Telephone and Data Systems, Inc. Voting Trust | Telephone and Data Systems, Inc. Voting Trust | Telephone and Data Systems, Inc. Voting Trust, United States Cellular Telephone of Greater Tulsa, L.L.C.
20040316 | Affiliated Computer Services, Inc | Patent Accounting Service Center, L.L.C. | Affiliated Computer Services, Inc., Patient Accounting Service Center, L.L.C.
Transactions Granted Early Termination—01/02/2004
20040325 | Liberte Investors, Inc | USAuto Holdings, Inc | Liberte Investors, Inc., USAuto Holdings, Inc.
Transactions Granted Early Termination—01/060/2004
20040295 | Parthenon Investors II, L.P | James B. A. Tracey, II | DCS Business Services, Inc., James B.A. Tracey, II, Parthenon Investors II, L.P.
20040301 | SunGard Data Systems Inc | Systems & Computer Technology Corporation | SunGard Data Systems Inc., Systems & Computer Technology Corporation.
Transactions Granted Early Termination—01/07/2004
20040300 | Project Hampshire Limited | The Davis Service Group plc | HSS Hire Service Group plc, Project Hampshire Limited, The Davis Service Group plc.
20040302 | EMC Corporation | VMware, Inc | EMC Corporation, VMware, Inc.
20040319 | Silver Lake Partners, L.P | WorldCom, Inc | Silver Lake Partners, L.P., WorldCom, Inc.
20040320 | MatlinPatterson Global Opportunities Partners L.P | WorldCom, Inc | MatlinPatterson Global Opportunities, Partners L.P., WorldCom, Inc.
20040321 | MatlinPatterson Global Opportunities Partners (Bermuda) L.P | WorldCom, Inc | MatlinPatterson Global Opportunities, Partners (Bermuda) L.P., WorldCom, Inc.
20040329 | Bain Capital Fund VII, L.P | Worldcom, Inc | Bain Capital Fund VII, L.P., WorldCom, Inc.
20040303 | SunGard Data Systems, Inc | Warburg Pincus Investors Liquidating Trust | FAME Information Services, Inc., SunGard Data Systems, Inc., Warburg Pincus Investors Liquidating Trust.
20040312 | SI International, Inc | MATCOm International Corp | MATCOM International Corp., SI International, Inc.
Transactions Granted Early Termination—01/09/2004
20040277 | Electronic Data Systems Corporation | Feld Partners Investments, L.P | Electronic Data Systems Corporation, Feld Partners Investments, L.P., The Feld Group, Inc.
Transactions Granted Early Termination—01/12/2004
20040293 | Eli Lilly and Company | Applied Molecular Evolution, Inc | Applied Molecular Evolution, Inc., Eli Lilly and Company.
20040317 | Henkel KGaA | The Dial Corporation | Henkel KGaA, The Dial Corporation.
20040322 | JLL Partners Fund IV, L.P | Linsalata Capital Partners Fund IV, L.P | JLL Partners Fund IV, L.P., Linsalata Capital Partners Fund IV, L.P., PGT Holdings Company.
20040327 | Schneider Electric S.A | MGE Finances SAS | MGE Finances SAS, Schneider Electric S.A.
20040338 | Verisity Ltd | Axis Systems, Inc | Axis Systems, Inc., Verisity Ltd.
20040339 | Cumulus Media Inc | Southern Minnesota Broadcasting Co | Cumulus Media Inc., Southern Minnesota Broadcasting Co.
20040340 | Snyder Associated Companies, Inc | Sylvan Inc | Snyder Associated Companies, Inc., Sylvan Inc.
20040341 | Rhone Capital LLC | Alcoa Inc | Alcoa ACC Industrial Chemicals Ltd., Alcoa Chemicals Japan Limited, Alcoa Chemie GmbH, Alcoa Chemie Nederland B.V., Aloca Inc., Alcoa World Alumina LLC, Australian Fused Materials Pty Ltd., Discovery Aluminas, Inc., Qingdao Alcoa Co., Ltd., Qingdao Alcoa Trading Co., Ltd., Rhone Capital LLC.
20040344 | Citrix Systems, Inc | Expertcity.com.Inc | Citrix Systems, Inc., Expertcity.com.Inc.
20040350 | The News Corporation Limited | The News Corporation Limited | Sunshine Network, The News Corporation Limited.
20040353 | Compass Partners European Equity Fund (Bermuda) L.P | Kenneth R. Thomson | Compass Partners European Equity Fund (Bermuda) L.P., DBM Group S.A., Drake Beam Morin do Brasil Commercial Ltda., Drake Beam Morin, Inc., Kenneth R. Thomson.
20040357 | Stephen E. Jackson | Stephen J. Heyman | American Central Eastern Texas Gas Company, Ltd Partnership Stephen E. Jackson, Stephen J. Heyman.
20040358 | Stephen J. Heyman | Stephen E. Jackson | American Central Eastern Texas Gas Co., Ltd. Partnership, Stephen E. Jackson, Stephen J. Heyman.
20040360 | Atlas Pipeline Partners, L.P | SEMCO Energy, Inc | Alaska Pipeline Company, LLC, Atlas Pipeline Partners, L.P., SEMCO Energy, Inc.
20040362 | New Mountain Partners, L.P | National Medical Health Card Systems, Inc | National Medical Health Card Systems, Inc., New Mountain Partners, L.P.
20040365 | The Edward W. Scripps Trust | Summit America Television, Inc | Summit America Television, Inc., The Edward W. Scripps Trust.
20040368 | Marsh & McLennan Companies, Inc | Synhrgy HR Technologies, Inc | Marsh & McLennan Companies, Inc., Synhrgy HR Technologies, Inc.
20040370 | Gannett Co., Inc | Jobson Publishing L.L.C | Gannett Co., Inc., Jobson Publishing L.L.C.
Transactions Granted Early Termination—01/14/2004
20040324 | Gas-Mart USA, Inc | ConocoPhillips | ConocoPhillips, ConocoPhillips Company, Gas-Mart USA, Inc.
20040337 | Zurich Financial Services | Roger Johnson | IES Manufacturing Company, ITCI, Kele & Associates, Inc., Roger Johnson, Wentech, Incorporated, Zurich Financial Services.
20040355 | The Sage Group plc | Computer Associates International, Inc | ACCPAC International, Inc., Computer Associates International, Inc., The Sage Group plc.
20040366 | R2 Investments, LDC | Carl Icahn | Carl Icahn, R2 Investments, LDC, XO Communications, Inc.
Transactions Granted Early Termination—01/15/2004
20040304 | Dearborn Holdings Corporation | Martin J. Maslonka | Dearborn Holdings Corporation, Martin J. Maslonka, Maslonka & Associates, Inc.
20040333 | Vestar Capital Partners IV, L.P | Solo Holdings LLC | Solo Holdings LLC, Solo Investment Corp., Vestar Capital Partners IV, L.P.
20040336 | Freudenberg & Co. Kommanditgesellschaft | Foseco (Jersey) Ltd | Chem-Trend Holding, Inc., Foseco (Jersey) Ltd., Freudenberg & Co. Kommanditgesellschaft.
20040348 | Julie N. Brown | Joe Balous | Joe Balous, Julie N. Brown, LDM Technologies, Inc.
20040349 | Julie N. Brown | Richard J. Nash | Julie N. Brown, LDM Technologies, Inc., Richard J. Nash.
Transactions Granted Early Termination—01/16/2004
20040228 | Teva Pharmaceutical Industries Limited | SICOR Inc | SICOR Inc., Teva Pharmaceutical Industries Limited.
Transactions Granted Early Termination—01/20/2004
20040369 | Henkel KGaA | Amitee Cosmetics, Inc | Amitee Cosmetics, Inc., Henkel KGaA
20040374 | Comcast Corporation | Stephen E. Myers | Comcast Corporation, Stephen E. Myers, US Cable of Coastal-Texas L.P.
20040375 | Harvest Partners IV, L.P | BellSouth Corporation | BellSouth Corporation, Harvest Partners IV, L.P., NFIL Holdings Corp.
20040376 | Caxton Global Investments Limited | Nortek Holdings, Inc | Caxton Global Investments Limited, Nortek Holdings, Inc., Ply Gem Industries, Inc.
20040378 | James Dimon | Bank One Corporation | Bank One Corporation, James Dimon.
20040382 | Kellwood Company | Russell and Kimora Lee Simmons | Kellwood Company, Phat Fashions, LLC and Phat Licensing, LLC, Russell and Kimora Lee Simmons.
20040386 | Harvest Partners IV, L.P | Transit Holdings, Inc | Harvest Partners IV, L.P., Transit Holdings, Inc.
20040387 | Code Hennessy & Simmons IV, L.P | Gundle/SLT Environmental, Inc | Code Hennessy & Simmons IV, L.P., Gundle/SLT Environmental, Inc.
Transactions Granted Early Termination—01/22/2004
20040335 | VeriSign, Inc | Guardent, Inc | Guardent, Inc., VeriSign, Inc.
20040343 | Canfor Corporation | Slocan Forest Products Ltd | Canfor Corporation, Slocan Forest Products Ltd.
200403381 | Royal Bank of Canada | William R. Hough & Co., Inc | Royal Bank of Canada, William R. Hough & Co., Inc.
20040383 | Humana Inc | Ochsner Clinic Foundation | Humana Inc., Ochsner Clinic Foundation, Ochsner Health Plan Interests Inc.

FOR FURTHER INFORMATION CONTACT: Sandra M. Peay, Contact Representative or Renee Hallman, Legal Technician, Federal Trade Commission, Premerger Notification Office, Bureau of Competition, Room H-303, Washington, DC 20580, (202) 326-3100.

By Direction of the Commission.

Donald S. Clark,
Secretary.

[FR Doc. 04-3977 Filed 2-23-04; 8:45 am]

BILLING CODE 6750-01-M